DEPARTMENT OF AGRICULTURE

Food and Nutrition Service

Special Supplemental Nutrition Program for Women, Infants, and Children (WIC): 2025/2026 Income Eligibility Guidelines

AGENCY: Food and Nutrition Service (FNS), USDA.

ACTION: Notice.

SUMMARY: The U.S. Department of Agriculture (“Department”) announces adjusted income eligibility guidelines to be used by State agencies in determining the income eligibility of persons applying to participate in the Special Supplemental Nutrition Program for Women, Infants, and Children (WIC). These income eligibility guidelines are to be used in conjunction with the WIC Regulations.

DATES: Applicable date July 1, 2025.

FOR FURTHER INFORMATION CONTACT: Allison Post, Chief, WIC Administration, Benefits, and Certification Branch, Policy Division, FNS, USDA, 1320 Braddock Place, Alexandria, Virginia 22314, 703-457-7708.

SUPPLEMENTARY INFORMATION:

Executive Order 12866

This notice is exempt from review by the Office of Management and Budget under Executive Order 12866.

Regulatory Flexibility Act

This action is not a rule as defined by the Regulatory Flexibility Act (5 U.S.C. 601-612) and thus is exempt from the provisions of this Act.

Paperwork Reduction Act of 1995

This notice does not contain reporting or recordkeeping requirements subject to approval by the Office of Management and Budget in accordance with the Paperwork Reduction Act of 1995 (44 U.S.C. 3507).

Executive Order 12372

This program is listed in the Catalog of Federal Domestic Assistance Programs under No. 10.557 and is subject to the provisions of Executive Order 12372, which requires intergovernmental consultation with State and local officials (7 CFR part 3015, subpart V, 48 FR 29100, June 24, 1983, and 49 FR 22675, May 31, 1984).

Description

Section 17(d)(2)(A) of the Child Nutrition Act of 1966, as amended (42 U.S.C. 1786(d)(2)(A)), requires the Secretary of Agriculture to establish income criteria to be used with nutritional risk criteria in determining a person's eligibility for participation in the WIC Program. The law provides that persons will be income-eligible for the WIC Program if they are members of families that satisfy the income standard prescribed for reduced-price school meals under section 9(b) of the Richard B. Russell National School Lunch Act (42 U.S.C. 1758(b)). Under section 9(b), the income limit for reduced-price school meals is 185 percent of the Federal poverty guidelines, as adjusted. Section 9(b) also requires that these guidelines be revised annually to reflect changes in the Consumer Price Index. The annual revision for 2025 was published by the Department of Health and Human Services (HHS) at 90 FR 5917 on January 17, 2025. The guidelines published by HHS are referred to as the “poverty guidelines.”

Program Regulations at 7 CFR 246.7(d)(1) specify that State agencies may prescribe income guidelines either equaling the income guidelines established under Section 9 of the Richard B. Russell National School Lunch Act for reduced-price school meals, or identical to State or local guidelines for free or reduced-price health care. However, in conforming WIC income guidelines to State or local health care guidelines, the State cannot establish WIC guidelines which exceed the guidelines for reduced-price school meals, or which are less than 100 percent of the Federal poverty guidelines. Consistent with the method used to compute income eligibility guidelines for reduced-price meals under the National School Lunch Program, the poverty guidelines were multiplied by 1.85 and the results rounded upward to the next whole dollar.

Currently, the Department is publishing the maximum and minimum WIC income eligibility guidelines by household size for the period of July 1, 2025, through June 30, 2026. Consistent with section 17(f)(17) of the Child Nutrition Act of 1966, as amended (42 U.S.C. 1786(f)(17)), a State agency may implement the revised WIC income eligibility guidelines concurrently with the implementation of income eligibility guidelines under the Medicaid Program established under Title XIX of the Social Security Act (42 U.S.C. 1396, et seq.). State agencies may coordinate implementation with the revised Medicaid guidelines, i.e., earlier in the year, but in no case may implementation take place later than July 1, 2025. State agencies that do not coordinate implementation with the revised Medicaid guidelines must implement the WIC income eligibility guidelines on or before July 1, 2025.

Income Eligibility Guidelines
[Effective from July 1, 2025, to June 30, 2026]
Household size | Federal poverty guidelines—100%: Annual | Federal poverty guidelines—100%: Monthly | Federal poverty guidelines—100%: Twice-monthly | Federal poverty guidelines—100%: Bi-weekly | Federal poverty guidelines—100%: Weekly | Reduced price meals—185%: Annual | Reduced price meals—185%: Monthly | Reduced price meals—185%: Twice-monthly | Reduced price meals—185%: Bi-weekly | Reduced price meals—185%: Weekly
48 Contiguous States, DC, Guam and Territories
1 | $15,650 | $1,305 | $653 | $602 | $301 | $28,953 | $2,413 | $1,207 | $1,114 | $557
2 | 21,150 | 1,763 | 882 | 814 | 407 | 39,128 | 3,261 | 1,631 | 1,505 | 753
3 | 26,650 | 2,221 | 1,111 | 1,025 | 513 | 49,303 | 4,109 | 2,055 | 1,897 | 949
4 | 32,150 | 2,680 | 1,340 | 1,237 | 619 | 59,478 | 4,957 | 2,479 | 2,288 | 1,144
5 | 37,650 | 3,138 | 1,569 | 1,449 | 725 | 69,653 | 5,805 | 2,903 | 2,679 | 1,340
6 | 43,150 | 3,596 | 1,798 | 1,660 | 830 | 79,828 | 6,653 | 3,327 | 3,071 | 1,536
7 | 48,650 | 4,055 | 2,028 | 1,872 | 936 | 90,003 | 7,501 | 3,751 | 3,462 | 1,731
8 | 54,150 | 4,513 | 2,257 | 2,083 | 1042 | 100,178 | 8,349 | 4,175 | 3,853 | 1,927
Each add'l family member add | + $5,500 | + $459 | + $230 | + $212 | + $106 | + $10,175 | + $848 | + $424 | + $392 | + $196
Alaska
1 | 19,550 | 1,630 | 815 | 752 | 376 | 36,168 | 3,014 | 1,507 | 1,392 | 696
2 | 26,430 | 2,203 | 1,102 | 1,017 | 509 | 48,896 | 4,075 | 2,038 | 1,881 | 941
3 | 33,310 | 2,776 | 1,388 | 1,282 | 641 | 61,624 | 5,136 | 2,568 | 2,371 | 1,186
4 | 40,190 | 3,350 | 1,675 | 1,546 | 773 | 74,352 | 6,196 | 3,098 | 2,860 | 1,430
5 | 47,070 | 3,923 | 1,962 | 1,811 | 906 | 87,080 | 7,257 | 3,629 | 3,350 | 1,675
6 | 53,950 | 4,496 | 2,248 | 2,075 | 1,038 | 99,808 | 8,318 | 4,159 | 3,839 | 1,920
7 | 60,830 | 5,070 | 2,535 | 2,340 | 1,170 | 112,536 | 9,378 | 4,689 | 4,329 | 2,165
8 | 67,710 | 5,643 | 2,822 | 2,605 | 1,303 | 125,264 | 10,439 | 5,220 | 4,818 | 2,409
Each add'l family member add | + $6,880 | + $574 | + $287 | + $265 | + $133 | + $12,728 | + $1,061 | + $531 | + $490 | + $245
Hawaii
1 | 17,990 | 1,500 | 750 | 692 | 346 | 33,282 | 2,774 | 1,387 | 1,281 | 641
2 | 24,320 | 2,027 | 1,014 | 936 | 468 | 44,992 | 3,750 | 1,875 | 1,731 | 866
3 | 30,650 | 2,555 | 1,278 | 1,179 | 590 | 56,703 | 4,726 | 2,363 | 2,181 | 1,091
4 | 36,980 | 3,082 | 1,541 | 1,423 | 712 | 68,413 | 5,702 | 2,851 | 2,632 | 1,316
5 | 43,310 | 3,610 | 1,805 | 1,666 | 833 | 80,124 | 6,677 | 3,339 | 3,082 | 1,541
6 | 49,640 | 4,137 | 2,069 | 1,910 | 955 | 91,834 | 7,653 | 3,827 | 3,533 | 1,767
7 | 55,970 | 4,665 | 2,333 | 2,153 | 1,077 | 103,545 | 8,629 | 4,315 | 3,983 | 1,992
8 | 62,300 | 5,192 | 2,596 | 2,397 | 1,199 | 115,255 | 9,605 | 4,803 | 4,433 | 2,217
Each add'l family member add | + $6,330 | + $528 | + $264 | + $244 | + $122 | + $11,711 | + $976 | + $488 | + $451 | + $226

Income Eligibility Guidelines
[Effective from July 1, 2025, to June 30, 2026]
[Household size larger than 8]
Household size | Federal poverty guidelines—100%: Annual | Federal poverty guidelines—100%: Monthly | Federal poverty guidelines—100%: Twice-monthly | Federal poverty guidelines—100%: Bi-weekly | Federal poverty guidelines—100%: Weekly | Reduced price meals—185%: Annual | Reduced price meals—185%: Monthly | Reduced price meals—185%: Twice-monthly | Reduced price meals—185%: Bi-weekly | Reduced price meals—185%: Weekly
48 Contiguous States, DC, Guam and Territories
9 | $59,650 | $4,971 | $2,486 | $2,295 | $1,148 | $110,353 | $9,197 | $4,599 | $4,245 | $2,123
10 | 65,150 | 5,430 | 2,715 | 2,506 | 1,253 | 120,528 | 10,044 | 5,022 | 4,636 | 2,318
11 | 70,650 | 5,888 | 2,944 | 2,718 | 1,359 | 130,703 | 10,892 | 5,446 | 5,028 | 2,514
12 | 76,150 | 6,346 | 3,173 | 2,929 | 1,465 | 140,878 | 11,740 | 5,870 | 5,419 | 2,710
13 | 81,650 | 6,805 | 3,403 | 3,141 | 1,571 | 151,053 | 12,588 | 6,294 | 5,810 | 2,905
14 | 87,150 | 7,263 | 3,632 | 3,352 | 1,676 | 161,228 | 13,436 | 6,718 | 6,202 | 3,101
15 | 92,650 | 7,721 | 3,861 | 3,564 | 1,782 | 171,403 | 14,284 | 7,142 | 6,593 | 3,297
16 | 98,150 | 8,180 | 4,090 | 3,775 | 1,888 | 181,578 | 15,132 | 7,566 | 6,984 | 3,492
Each add'l family member add | + $5,500 | + $459 | + $230 | + $212 | + $106 | + $10,175 | + $848 | + $424 | + $392 | + $196
Alaska
9 | 74,590 | 6,216 | 3,108 | 2,869 | 1,435 | 137,992 | 11,500 | 5,750 | 5,308 | 2,654
10 | 81,470 | 6,790 | 3,395 | 3,134 | 1,567 | 150,720 | 12,560 | 6,280 | 5,797 | 2,899
11 | 88,350 | 7,363 | 3,682 | 3,399 | 1,700 | 163,448 | 13,621 | 6,811 | 6,287 | 3,144
12 | 95,230 | 7,936 | 3,968 | 3,663 | 1,832 | 176,176 | 14,682 | 7,341 | 6,776 | 3,388
13 | 102,110 | 8,510 | 4,255 | 3,928 | 1,964 | 188,904 | 15,742 | 7,871 | 7,266 | 3,633
14 | 108,990 | 9,083 | 4,542 | 4,192 | 2,096 | 201,632 | 16,803 | 8,402 | 7,756 | 3,878
15 | 115,870 | 9,656 | 4,828 | 4,457 | 2,229 | 214,360 | 17,864 | 8,932 | 8,245 | 4,123
16 | 122,750 | 10,230 | 5,115 | 4,722 | 2,361 | 227,088 | 18,924 | 9,462 | 8,735 | 4,368
Each add'l family member add | + $6,880 | + $567 | + $284 | + $262 | + $131 | + $12,580 | + $1,049 | + $525 | + $484 | + $242
Hawaii
9 | 68,630 | 5,720 | 2,860 | 2,640 | 1,320 | 126,966 | 10,581 | 5,291 | 4,884 | 2,442
10 | 74,960 | 6,247 | 3,124 | 2,884 | 1,442 | 138,676 | 11,557 | 5,779 | 5,334 | 2,667
11 | 81,290 | 6,775 | 3,388 | 3,127 | 1,564 | 150,387 | 12,533 | 6,267 | 5,785 | 2,893
12 | 87,620 | 7,302 | 3,651 | 3,370 | 1,685 | 162,097 | 13,509 | 6,755 | 6,235 | 3,118
13 | 93,950 | 7,830 | 3,915 | 3,614 | 1,807 | 173,808 | 14,484 | 7,242 | 6,685 | 3,343
14 | 100,280 | 8,357 | 4,179 | 3,857 | 1,929 | 185,518 | 15,460 | 7,730 | 7,136 | 3,568
15 | 106,610 | 8,885 | 4,443 | 4,101 | 2,051 | 197,229 | 16,436 | 8,218 | 7,586 | 3,793
16 | 112,940 | 9,412 | 4,706 | 4,344 | 2,172 | 208,939 | 17,412 | 8,706 | 8,037 | 4,019
Each add'l family member add | + $6,330 | + $528 | + $264 | + $244 | + $122 | + $11,711 | + $976 | + $488 | + $451 | + $226

The table of this notice contains the income limits by household size for the 48 contiguous States, the District of Columbia, and all United States Territories, including Guam. Separate tables for Alaska and Hawaii have been included for the convenience of the State agencies because the poverty guidelines for Alaska and Hawaii are higher than for the 48 contiguous States.

(Authority: 42 U.S.C. 1786)

Tameka Owens,
Acting Administrator, Food and Nutrition Service, USDA.

[FR Doc. 2025-03576 Filed 3-7-25; 8:45 am]

BILLING CODE 4150-05-P